DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Virginia Modified Pound Net Leader Inspection Program.

OMB Control Number: 0648-0559.

Form Number(s): NA.

Type of Request: Regular submission (extension of a current information collection).

Number of Respondents: 19.

Average Hours per Response: Telephone calls, 5 minutes; inspection meetings, 1 hour.

Burden Hours: 70.

Needs and Uses: This action would continue an inspection program for modified pound net leaders in the Virginia waters of the mainstem Chesapeake Bay. The pound net fishermen must call the National Marine Fisheries Service (NMFS) to arrange for a meeting. At the meeting, they must allow for the inspection of gear to ensure the modified leader meets the definition of a modified pound net leader, as described in the regulations (50 CFR 222.102). This inspection program is necessary to provide fishermen with the insurance that their leaders meet the regulatory definition of a modified pound net leader before setting their gear, provide managers with the knowledge that the offshore leaders in a portion of the Virginia Chesapeake Bay are configured in a sea turtle-safe manner, and aid in enforcement efforts.

Affected Public: Business or other for-profit organizations.

Frequency: On occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 18, 2011.
Gwellnar Banks,
Management Analyst, Office of the Chief Information Officer.

[FR Doc. 2011-21534 Filed 8-22-11; 8:45 am]

BILLING CODE 3510-22-P